FEDERAL COMMUNICATIONS COMMISSION

47 CFR Part 0

[DA 01-2255]

Change in Board on Contract Appeals

AGENCY: Federal Communications Commission.

ACTION: Final rule.

SUMMARY: This document amends the Commission's rules to reflect a change in the Board of Contract Appeals to which appeals of final decisions regarding procurement contracts will be referred. The Managing Director will refer such appeals to the Armed Services Board of Contract Appeals. Previously, such appeals were referred to the General Services Board of Contract Appeals. Appeals will be handled in accordance with the Rules of the Armed Services Board of Contract Appeals.

DATES: Effective October 1, 2001.

FOR FURTHER INFORMATION CONTACT: Sonna Stampone, Office of the Managing Director, (202) 418-0992.

SUPPLEMENTARY INFORMATION: 1. By this order, we amend 0.231(e) of the Commission's rules, 47 CFR 0.231(e), to reflect the change of Board of Contract Appeals to which contract appeals shall be referred. The Managing Director will refer all appeals of final decisions regarding procurement contracts to the Armed Services Board of Contract Appeals.

2. Accordingly, pursuant to § 0.231(b) of the Commission's rules, 47 CFR 0.231(b), § 0.231(e) of the Commission's rules, 47 CFR 0.231(e), is Amended as rule changes and is effective October 1, 2001.

List of Subjects in 47 CFR Part 0

Organization and functions (Government Agencies).

Federal Communications Commission.
Magalie Roman Salas,
Secretary.

Rule Changes

Part 0, subpart B, of chapter 1 of title 47 of the Code of Federal Regulations is amended as follows:

PART 0—COMMISSION ORGANIZATION

1. The authority citation for part 0 continues to read as follows:

Authority: Sec. 5, 48 Stat. 1068, as amended: 47 U.S.C. 155, unless otherwise noted.

2. Section 0.231 is amended by revising paragraph (e) as follows:

§ 0.231 Authority delegated.

* * * * *

(e) The Managing Director is delegated authority to act as Head of the Procurement Activity and Contracting Officer for the Commission and to designate appropriate subordinate officials to act as Contracting Officers for the Commission. As Head of the Procurement Activity, the Managing Director will refer all appeals filed against final decisions regarding procurement contracts to the Armed Services Board of Contract Appeals for resolution. Appeals will be handled in accordance with the Rules of the Board of Contract Appeals.

* * * * *

[FR Doc. 01-24956 Filed 10-4-01; 8:45 am]

BILLING CODE 6712-01-P